DEPARTMENT OF COMMERCE

International Trade Administration

Initiation of Antidumping and Countervailing Duty Administrative Reviews and Requests for Revocation in Part

AGENCY: Import Administration, International Trade Administration, Department of Commerce.

SUMMARY: The Department of Commerce (the Department) has received requests to conduct administrative reviews of various antidumping and countervailing duty orders and findings with August anniversary dates. In accordance with the Department's regulations, we are initiating those administrative reviews. The Department also received requests to revoke one antidumping duty order and one countervailing duty order in part.

EFFECTIVE DATE: September 25, 2007.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

SUPPLEMENTARY INFORMATION:

Background

The Department has received timely requests, in accordance with 19 CFR 351.213(b) (2007), for administrative reviews of various antidumping and countervailing duty orders and findings with August anniversary dates. The Department also received timely requests to revoke in part the antidumping duty order on Corrosion-Resistant Carbon Steel Flat Products from the Republic of Korea with respect to one exporter and the countervailing duty order on Corrosion-Resistant Carbon Steel Flat Products from the Republic of Korea with respect to two exporters.

Initiation of Reviews:

In accordance with sections 19 CFR 351.221(c)(1)(i), we are initiating administrative reviews of the following antidumping and countervailing duty orders and findings. We intend to issue the final results of these reviews not later than August 31, 2008.

Antidumping Duty Proceedings | Period to be Reviewed
GERMANY: Corrosion-Resistant Carbon Steel Flat Products
A-428-815 | 8/1/06 - 7/31/07
ThyssenKrupp Steel AG
ITALY: Granular Polytetrafluoroethylene (PTFE) Resin
A-475-703 | 8/1/06 - 7/31/07
Solvay Solexis, S.p.A.
MALAYSIA: Polyethylene Retail Carrier Bags
A-557-813 | 8/1/06 - 7/31/07
Europlastics Malaysia Sdn. Bhd.
Eplastics Procurement Center Sdn. Bhd.
King Pac Industrial Co., Ltd.
Zhin Hin Plastic Manufacturer Sdn. Bhd. (aka Chin Hin Plastic Manufacturer Sdn. Bhd.)
REPUBLIC OF KOREA:Corrosion-Resistant Carbon Steel Flat Products
A-580-816 | 8/1/06 - 7/31/07
Dongbu Steel Co., Ltd.
Dongkuk Industries Co., Ltd.
Haewon MSC Co., Ltd.
Hyundai HYSCO
LG Chem, Ltd.
Pohang Iron and Steel Co., Ltd./Pohang Coated Steel Co., Ltd.
Union Steel Manufacturing Co., Ltd.
SOCIALIST REPUBLIC OF VIETNAM: Frozen Fish Fillets¹
A-552-801 | 8/1/06 - 7/31/07
An Giang Agriculture and Food Import Export Company (aka Afiex, A. Seafood, Afiex Seafood, or An Giang Afiex Company)
An Giang Fisheries Import and Export Joint Stock Company (aka Agifish or AnGiang Fisheries Import and Export)
An Xuyen Company Ltd.
Anvifish Co., Ltd.
Basa Co., Ltd.
Can Tho Agricultural and Animal Products Import Export Company (aka Cataco)
Cantho Seafood Export (aka CASEAFOOD)
Can Tho Animal Fishery Products Processing Export Enterprise (aka Cafatex)
Cantho Import Export Seafood Joint Stock Company (aka CASEAMEX)
CL-Fish Co., Ltd. (aka Cuu Long Fish Company)
Da Nang Seaproducts Import-Export Corporation (aka Da Nang or Seaprodex Danang)
Duyen Hai Foodstuffs Processing Factory (aka COSEAFEX)
East Sea Seafoods Joint Venture Co., Ltd.
Gepimex 404 Company
Hai Nam Co., Ltd.
Hai Vuong Co., Ltd.
Hoan An Fishery Co., Ltd.
Hung Vuong Co., Ltd.
Kim Anh Co., Ltd.
Mekongfish Company (aka Mekonimex or Mekong Fisheries Joint Stock Company)
Nam Viet Company Limited (aka NAVICO)
Ngoc Thai Company, Ltd.
QVD Food Company, Ltd.
QVD Dong Thap Food Co., Ltd.
Southern Fishery Industries Company, Ltd. (aka South Vina)
Thuan Hung Co., Ltd. (aka THUFICO)
Viet Hai Seafood Company Limited (aka Vietnam Fish-One Co., Ltd.)
Vinh Hoan Corporation
Vinh Hoan Company, Ltd.
Vinh Long Import-Export Company (aka Imex Cuu Long)
Vinh Quang Fisheries Corporation
Lian Heng Trading Co., Ltd.
THAILAND: Polyethylene Retail Carrier Bags
A-549-821 | 8/1/06- 7/31/07
King Pac Industrial Co., Ltd.
King Pak Ind. Co., Ltd.
Kor Ratthanakit Co., Ltd.
Master Packaging Co., Ltd.
Naraipak Co., Ltd.
Polyplast (Thailand) Co., Ltd.
THE PEOPLE'S REPUBLIC OF CHINA: Floor-Standing Metal-Top Ironing Tables²
A-570-888 | 8/1/06 - 7/31/07
Forever Holdings Limited
Since Hardware (Guangzhou) Co., Ltd.
THE PEOPLE'S REPUBLIC OF CHINA: Polyethylene Retail Carrier Bags³
A-570-886 | 8/1/06 - 7/31/07
Crown Polyethylene Products (Int'l) Ltd.
Dongguan Nozawa Plastics Co., Ltd. and United Power Packaging, Ltd. (collectively “Nozawa”)
Dongguan Qiatou Samson Plastic Manufactory Co.
Everfaith International (Shanghai) Ltd.
Rally Plastics Co., Ltd.
Sea Lake Polyethylene Enterprises, Ltd.
Shanghai Glopack, Inc.
Shanghai Hua Yue Packaging Products
Shanghai Yafu Plastics Industry Co., Ltd.
Countervailing Duty Proceedings
REPUBLIC OF KOREA: Corrosion-Resistant Carbon Steel Flat Products
C-580-818 | 1/1/06 - 12/31/06
Dongbu Steel Co., Ltd.
Pohang Iron & Steel Co., Ltd.
REPUBLIC OF KOREA: Dynamic Random Access Memory Semiconductors
C-580-851 | 1/1/06 - 12/31/06
Hynix Semiconductor, Inc. (formerly Hyundai Electronics Industries Co., Ltd.)
REPUBLIC OF KOREA: Stainless Steel Sheet and Strip in Coils
C-580-835 | 1/1/06 - 12/31/06
Dai Yang Metal Co., Ltd.
Suspension Agreements
None.
¹ If one of the above named companies does not qualify for a separate rate, all other exporters of frozen fish fillets from the Socialist Republic of Vietnam who have not qualified for a separate rate are deemed to be covered by this review as part of the single Vietnam entity of which the named exporters are a part.
²If one of the above named companies does not qualify for a separate rate, all other exporters of floor-standing metal-top ironing tables from the People's Republic of China who have not qualified for a separate rate are deemed to be covered by this review as part of the single PRC entity of which the named exporters are a part.
³ If one of the above named companies does not qualify for a separate rate, all other exporters of polyethylene retail carrier bags from the People's Republic of China who have not qualified for a separate rate are deemed to be covered by this review as part of the single PRC entity of which the named exporters are a part.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistant with FAG Italia v.(roman) United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 USC 1675(a)) and 19 CFR 351.221(c)(1)(i).

Dated: September 19, 2007.
Stephen J. Claeys,
Deputy Assistant Secretary for Import Administration.

[FR Doc. E7-18857 Filed 9-24-07; 8:45 am]

BILLING CODE 3510-DS-S